DEPARTMENT OF LABOR

Employment and Training Administration

[TA-W-58,623; TA-W-58,623CC; TA-W-58,623DD]

Westpoint Home, Inc., Formerly Westpoint Stevens, Inc. Corporate Office Including On-Site Leased Workers of Ambassador Personnel in the Corporate Office, Claims Department; West Point, Georgia; Including Employees of Westpoint Home, Inc., Formerly Westpoint Stevens, Inc., Corporate Office, West Point, Georgia Employees Working at the Following Locations: Cotton Department Valley, Alabama, Records Center West Point, Georgia; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Notice of Determination Regarding Eligibility to Apply for Worker Adjustment Assistance on February 21, 2006, applicable to workers of WestPoint Home, Inc., formerly WestPoint Stevens, Inc., Corporate Office West Point, Georgia. The notice was published in the Federal Register on March 22, 2006 (71 FR 14549).

At the request of a company official, the Department reviewed the certification for workers of the subject firm.

New information shows that worker separations have occurred involving employees of the Corporate Office, West Point, Georgia of WestPoint Home, Inc., formerly WestPoint Stevens, Inc. located in the Cotton Department, Valley, Alabama and the Records Center, West Point, Georgia. The workers provided support services for the manufacture of comforters, sheets, pillowcases, towels and blankets produced by WestPoint Home, Inc., formerly WestPoint Stevens, Inc.

Information also shows that leased workers of Ambassador Personnel were employed on-site at the West Point, Georgia location of WestPoint Home, Inc., formerly WestPoint Stevens, Inc., Corporate Office, Claims Department.

In addition, in accordance with section 246 of the Trade Act of 1974 (26 U.S.C. 2813), as amended, the Department of Labor herein presents the results of its investigation regarding certification of eligibility to apply for alternative trade adjustment assistance (ATAA) for older workers.

The Department has determined in this case the requirements of section 246 have been met.

A significant number of workers at the firm are age 50 or over and possess skills that are not easily transferable. Competitive conditions within the industry are adverse.

Based on these findings, the Department is amending this certification to include employees of the Corporate Office, West Point, Georgia facility WestPoint Home, Inc., formerly WestPoint Stevens, Inc. located at the Cotton Department, Valley, Alabama and the Records Center, West Point, Georgia.

The intent of the Department's certification is to include all workers of WestPoint Home, Inc., formerly WestPoint Stevens, Inc., Corporate Office, West Point, Georgia who were adversely affected by increased company and customer imports.

The amended notice applicable to TA-W-58,623 is hereby issued as follows:

“All workers of WestPoint Home, Inc., formerly WestPoint Stevens, Inc., Corporate Office, including on-site leased workers of Ambassador Personnel, who reported to the Corporate Office, Claims Department, West Point, Georgia (TA-W-58,623), including employees reporting to this office but working at the Cotton Department, Valley, Alabama (TA-W-58,623CC) and the Records Center, West Point, Georgia (TA-W-58,623DD), who became totally or partially separated from employment on or after January 12, 2005, through February 21, 2008, are eligible to apply for adjustment assistance under section 223 of the Trade Act of 1974 and are also eligible to apply for alternative trade adjustment assistance under section 246 of the Trade Act of 1974.”

Signed at Washington, DC this 24th day of October 2006.
Elliott S. Kushner,
Certifying Officer, Division of Trade Adjustment Assistance.

[FR Doc. E6-18216 Filed 10-30-06; 8:45 am]

BILLING CODE 4510-30-P